ENVIRONMENTAL PROTECTION AGENCY

[EPA-HQ-OARM-2018-0028; FRL-9195-01-OMS]

Information Collection Request Submitted to OMB for Review and Approval; Comment Request; Contractor Conflicts of Interest (Renewal)

AGENCY: Environmental Protection Agency (EPA).

ACTION: Notice.

SUMMARY: The Environmental Protection Agency (EPA) has submitted an information collection request (ICR), Contractor Conflicts of Interest (EPA ICR Number 1550.12, OMB Control Number 2030-0023) to the Office of Management and Budget (OMB) for review and approval in accordance with the Paperwork Reduction Act. This is a proposed extension of the ICR, which is currently approved through December 31, 2021. Public comments were previously requested via the Federal Register on April 9, 2021 during a 60-day comment period. This notice allows for an additional 30 days for public comments. A fuller description of the ICR is given below, including its estimated burden and cost to the public. An agency may not conduct or sponsor, and a person is not required to respond to a collection of information unless it displays a currently valid OMB control number.

DATES: Additional comments may be submitted on or before November 26, 2021.

ADDRESSES: Submit your comments, referencing Docket ID Number EPA-HQ-OARM-2018-0028, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Pamela Leftrict, Policy Training and Oversight Division, Office of Acquisition Solutions (3802R), Environmental Protection Agency, 1200 Pennsylvania Ave. NW, Washington, DC 20460; telephone number: (202) 564-9463; email address: leftrict.pamela@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The collection of this information is required to ensure that the Agency can effectively identify, evaluate, and take appropriate action concerning contractor conflicts of interest (COI). Environmental Protection Agency (EPA) contractors are required to disclose any actual or potential COI with regard to their employees, corporate affiliations, and business relationships. Contractors will be required to maintain a database of business relationships and report information to EPA on either an annual basis or when work is ordered under an Agency contract. Additionally, under some contracts, the contractor must request written approval from the contracting officer to enter a proposed contract subject to the restrictions of EPA's Limitation of Future Contracting Clause that can found at CFR 48 1552.209-74.

Form Numbers: None.

Respondents/affected entities: All contractors seeking contract award that are identified with the potential conflict of interest upon contract award.

Respondent's obligation to respond: Mandatory in accordance with Federal Acquisition Regulation (FAR) subpart 9.5.

Estimated number of respondents: 56.

Frequency of response: Varies.

Total estimated burden: 69,757.52 hours annually. Burden is defined at 5 CFR 1320.03(b).

Total estimated cost: $5,029,174 (per year), includes $0 annualized capital or operation & maintenance costs.

Changes in Estimates: There is an increase of 13,703 hours in the total estimated respondent burden compared with the ICR currently approved by OMB. This increase is due to an increase in the number of Conflicts of Interest Plans required by the upsurge in acquisitions during the past three years. In the previous filing, there were 45 required COI plans, but in the current filing there are 56 required COI plans.

Courtney Kerwin,
Director, Regulatory Support Division.

[FR Doc. 2021-23366 Filed 10-26-21; 8:45 am]

BILLING CODE 6560-50-P